DEPARTMENT OF TRANSPORTATION

National Highway Traffic Safety Administration

[U.S. DOT Docket No. NHTSA-2014-0008]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before April 11, 2014.

ADDRESSES: You may submit comments identified by DOT Docket ID Number NHTSA-2014-0008 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-(202) 493-2251.

Instructions: Each submission must include the Agency name and the Docket number for this Notice. Note that all comments received will be posted without change to http://www.regulations.gov including any personal information provided. Please see the Privacy Act heading below.

Privacy Act: Anyone is able to search the electronic form for all comments received into any of our dockets by the name of the individual submitting the comments (or signing the comment, if submitted on behalf of an association, business, labor union, etc.). You may review DOT's complete Privacy Act Statement in the Federal Register published on April 11, 2000 (65 FR 19477-78) or you may visit http://DocketsInfo.dot.gov.

FOR FURTHER INFORMATION CONTACT: Dr. Russell Pierce, Contracting Officer's Technical Representative, Office of Behavioral Safety Research (NTI-132), National Highway Traffic Safety Administration, 1200 New Jersey Avenue SE., W46-472, Washington, DC 20590. Dr. Pierce's phone number is (202) 366-5599 and his email address is russell.pierce@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. NHTSA asks public comment on the following proposed collection of information:

Questionnaires for Traffic and Motor Vehicle Safety Research

Type of Request—New Information Collection.

OMB Clearance Number—None.

Requested Expiration Date of Approval—3 years from date of approval.

Summary of the Collection of Information—The National Highway Traffic Safety Administration (NHTSA) proposes to collect questionnaires from research participants and potential research participants. The information collected will be used to improve the quality of the questions that will be used in subsequent approved data collection efforts. Data collections may be collected from volunteers in-person, via US mail, via email, via telephone, or via a Web site.

Description of the Need for the Information and Proposed Use of the Information—

The National Highway Traffic Safety Administration (NHTSA) was authorized by the Highway Safety Act of 1966 to carry out a Congressional mandate to reduce the mounting number of deaths, injuries and economic losses resulting from motor vehicle crashes on our Nation's highways. As part of this statutory mandate, NHTSA is authorized to conduct research as a foundation for the development of motor vehicle standards and traffic safety programs.

NHTSA is requesting generic clearance to conduct information collections in the form of questionnaires for the purposes of improving the integrity, quality, and utility of other approved data collection efforts. This clearance will enable NHTSA to undergo the type of iterative development process wherein the practical, conceptual, and mathematical properties of questions are evaluated; this approach is standard in research of the type NHTSA conducts. This will also serve to allow NHTSA to better serve the purposes set forth in 44 U.S.C. 3501 by producing a higher quality research product and avoiding any additional paperwork burden that may result from questions that fail to have suitable practical, conceptual, or mathematical properties.

Description of the Likely Respondents (Including Estimated Number, and Proposed Frequency of Response to the Collection of Information)— Volunteers will be recruited from other approved NHTSA data collection efforts, NHTSA's traffic safety partners, or individuals recruited via advertisement based on questionnaire criteria. NHTSA anticipates needing approximately 2,000 participants per year. NHTSA anticipates that any volunteers recruited will only be contacted once in any given year.

Estimate of the Total Annual Reporting and Record Keeping Burden Resulting from the Collection of Information— Recruitment, scheduling, and the completion of questionnaires are estimated to require no more than 30 minutes per individual. Therefore, the total estimated annual reporting burden is 1,000 hours.

Public Comments Invited: Under OMB's regulations (at 5 CFR 1320.8(d)), you are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: 44 U.S.C. 3506(c)(2)(A).

Issued on February 5, 2014.
Jeff Michael,
Associate Administrator, Research and Program Development.

[FR Doc. 2014-02808 Filed 2-7-14; 8:45 am]

BILLING CODE 4910-59-P